DEPARTMENT OF DEFENSE

Department of the Army, Corps of Engineers

DEPARTMENT OF THE INTERIOR

Fish and Wildlife Service

Notice of Intent To Prepare an Integrated Environmental Impact Statement/Environmental Impact Report/Feasibility Report for the South San Francisco Bay Shoreline Study: Alviso Ponds and Santa Clara County Interim Feasibility Study

Correction

In notice document 06-102 beginning on page 924 in the issue of Friday, January 6, 2006, make the following corrections:

1. On page 924, in the third column, in the last paragraph, in the first line, “oversearching” should read “overarching”.

2. On page 925, in the second column, in the second line from the top, “anfsalt ponds of EIS/EIR” should read “an EIS/EIR”.

3. On page 926, in the third column, in the third full paragraph, in the third to last line, “there re two” should read “there are two”.

[FR Doc. C6-102 Filed 1-11-06; 8:45 am]

BILLING CODE 1505-01-D

DEPARTMENT OF THE INTERIOR

National Park Service

Notice of Intent to Repatriate Cultural Items: Thomas Burke Memorial Washington State Museum, University of Washington, Seattle, WA

Correction

In notice document 05-24509 beginning on page 76865 in the issue of Wednesday, December 28, 2005 make the following corrections:

1. On page 76865, in the second column, the subagency heading is corrected to read as set forth.

2. On the same page, in the same column, in the second paragraph, in the fifth line, “sold” should read “sole”.

[FR Doc. C5-24509 Filed 1-11-06; 8:45 am]

BILLING CODE 1505-01-D

PRESIDIO TRUST

36 CFR Part 1011

RIN 3212-AA07

Debt Collection

Correction

In rule document 05-23951 beginning on page 73587 in the issue of Tuesday, December 13, 2005, make the following correction:

§1011.5 [Corrected]

On page 73591, in §1011.5(e), in the second column, in the third line from the top, “ “.4” should read “§1011.4 ”.

[FR Doc. C5-23951 Filed 1-11-06; 8:45 am]

BILLING CODE 1505-01-D